DEPARTMENT OF DEFENSE

Office of the Secretary

[Docket ID: DoD-2021-OS-0068]

Submission for OMB Review; Comment Request

AGENCY: The Office of the Under Secretary of Defense for Personnel and Readiness, Department of Defense (DoD).

ACTION: 30-Day information collection notice.

SUMMARY: The Department of Defense has submitted to OMB for clearance the following proposal for collection of information under the provisions of the Paperwork Reduction Act.

DATES: Consideration will be given to all comments received by December 23, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: SAPR/SHARP Survey; OMB Control Number 0704-0608.

Type of Request: Extension.

Number of Respondents: 4,400.

Responses per Respondent: 2.

Annual Responses: 8,800.

Average Burden per Response: 15 minutes.

Annual Burden Hours: 2,200 hours.

Needs and Uses: NORC at the University of Chicago, in collaboration with the United States Naval Academy (USNA) Sexual Assault Prevention and Response (SAPR) staff and the United States Military Academy (USMA) sexual harassment/assault response and prevention (SHARP) staff, is conducting the SAPR/SHARP Surveys (a baseline survey and one follow-up survey) with USNA students (midshipmen) and USMA students (cadets) with funding support from the Sexual Assault Prevention and Response Office. The purpose of the overall study is to determine the effectiveness of the academy prevention programming in addressing sexual harassment and sexual assault. The survey assesses topics such as rape myth acceptance, descriptive behavioral norms at the respective academies, experiences of sexual harassment and sexual assault, alcohol-related sex expectancies, witnessing experiences that might call for bystander intervention to prevent sexual harassment and/or sexual assault, and personal responses when exposed to these situations. The surveys are voluntary. Data are aggregated by appropriate sociodemographic categories (sex, sexual orientation, race/ethnicity, and varsity athletic participation; sociodemographic responses will be recoded as binary indicators to prevent anyone from figuring out an individual participant's identity based on unique characteristics). The results of this survey will be used by the Service Academies to evaluate and update their prevention programming.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: November 17, 2021.
Aaron T. Siegel,
Alternate OSD Federal Register Liaison Officer, Department of Defense.

[FR Doc. 2021-25570 Filed 11-22-21; 8:45 am]

BILLING CODE 5001-06-P